DEPARTMENT OF VETERANS AFFAIRS

[OMB Control No. 2900-0706]

Agency Information Collection Activity: Application for Reimbursement of National Exam Fee; Withdrawn

AGENCY: Veterans Benefits Administration, Department of Veterans Affairs.

ACTION: Notice; withdrawal.

SUMMARY: On Thurdsay October, 13, 2023 the Veterans Benefits Administration (VA), published a notice in the Federal Register announcing an opportunity for public comment on the proposed collection Application for Reimbursement of National Exam Fee VA Form 22-0810. This notice was published in error; therefore, this document corrects that error by withdrawing this FR notice, document number 2023-19049.

DATES: As of Thurdsay October, 13, 2023, the FR notice published at 88 FR 19049 on Thurdsay October, 13, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-19049, published on Thurdsay October, 13, 2023 88 FR 19049, is withdrawn by this notice.

By direction of the Secretary.
Maribel Aponte,
VA PRA Clearance Officer, Office of Enterprise and Integration/Data Governance Analytics, Department of Veterans Affairs.

[FR Doc. 2023-23090 Filed 10-18-23; 8:45 am]

BILLING CODE 8320-01-P